DEPARTMENT OF THE TREASURY

Submission for OMB Review; Comment Request

July 20, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 28, 2000, to be assured of consideration.

U.S. Customs Service (CUS)

OMB Number: New.

Form Number: Customs Form 6043.

Type of Review: New collection.

Title: Delivery Ticket.

Description: This information collection ensures that Customs uniform, national procedures for approving and operating warehouses receiving and controlling general order merchandise are followed.

Respondents: Individuals or households, Business or other for-profit, Not-for-profit institutions.

Estimated Number of Respondents: 200.

Estimated Burden Hours Per Respondent: 20 minutes.

Frequency of Response: On occasion.

Estimated Total Reporting Burden: 6,600 hours.

Clearance Officer:J. Edgar Nichols (202) 927-1426, U.S. Customs Service, Information Services Branch, Ronald Reagan Building, 1300 Pennsylvania Avenue, NW., Room 3.2.C, Washington, DC 20229.

OMB Reviewer:Alexander T. Hunt (202) 395-7860, Office of Management and Budget, Room 10202, New Executive Office Building, Washington, DC 20503.

Lois K. Holland,
Departmental Reports Management Officer.

[FR Doc. 00-18958 Filed 7-26-00; 8:45 am]

BILLING CODE 4820-02-U